SECURITIES AND EXCHANGE COMMISSION

[Release No. 34-54437A; File No. SR-CHX-2005-06]

Self-Regulatory Organizations; Chicago Stock Exchange, Inc.; Order Approving a Proposed Rule Change and Amendment No. 1 and Notice of Filing and Order Granting Accelerated Approval to Amendment No. 2 to a Proposed Rule Change Relating to Disciplinary and Delisting Procedures; Correction

October 18, 2006.

In FR Doc. No. E6-15588, beginning on page 55037 for Wednesday, September 20, 2006, the sentence in Part V on page 55042 contained an error. Release No. 34-54437 (the “Release”) approved a proposed rule change filed by the Chicago Stock Exchange, Inc., in File No. SR-CHX-2005-06. Part V of the Release identified the filing being approved as SR-CBOE-2005-06, rather than SR-CHX-2005-06. Accordingly, Part V of the Release should be revised to read as follows:

“It is therefore ordered, pursuant to Section 19(b)(2) of the Act,¹ that the proposed rule change (SR-CHX-2005-06), as amended, is approved.”

¹ 15 U.S.C. 78s(b)(2).

For the Commission, by the Division of Market Regulation, pursuant to delegated authority.²
² 17 CFR 200.30-3(a)(12).
Nancy M. Morris,
Secretary.

[FR Doc. E6-17846 Filed 10-24-06; 8:45 am]

BILLING CODE 8011-01-P